DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 31, 2009.

Interested persons are invited to submit written comments regarding the subject matter of the investigations to the Director, Division of Trade Adjustment Assistance, at the address shown below, not later than December 31, 2009.

The petitions filed in this case are available for inspection at the Division of Trade Adjustment Assistance, Employment and Training Administration, U.S. Department of Labor, Room N-5428, 200 Constitution Avenue, NW., Washington, DC 20210.

Signed at Washington, DC, this 11th day of December 2009.
Elliott Kushner,
Certifying Officer, Division of Trade Adjustment Assistance.

Appendix
[TAA petitions instituted between 11/16/09 and 11/20/09]
TA-W | Subject firm (petitioners) | Location | Date of institution | Date of petition
72845 | Hewlett Packard (State) | Boise, ID | 11/16/09 | 11/13/09
72846 | Hewlett Packard Company (Wkrs) | Boise, ID | 11/16/09 | 10/29/09
72847 | Hanes Brand (Wkrs) | Sanford, NC | 11/16/09 | 11/10/09
72848 | Residential Solutions (Comp) | Tyler, TX | 11/16/09 | 11/13/09
72849 | Objective Systems Integrators (State) | Roseville, CA | 11/16/09 | 11/13/09
72850 | Kasto, Inc. (Comp) | Export, PA | 11/16/09 | 11/13/09
72851 | General Motors Corp. (State) | Milford, MI | 11/16/09 | 10/20/09
72852 | GM—Spring Hill Manufaturing Operations (Union) | Spring Hill, TN | 11/16/09 | 11/13/09
72853 | Stutzman Plating Inc. (Comp) | Los Angeles, CA | 11/16/09 | 11/11/09
72854 | CTG—Computer Task Group (Wkrs) | Indianapolis, IN | 11/16/09 | 10/28/09
72855 | Thermo Fisher Scientific (Comp) | Dubuque, IA | 11/16/09 | 11/11/09
72856 | Deco Products Company, LLC (State) | Decorah, IA | 11/16/09 | 11/13/09
72857 | Tasler, Inc. (State) | Webster City, IA | 11/16/09 | 11/13/09
72858 | Class Fashion, Inc. (Wkrs) | New York, NY | 11/16/09 | 11/15/09
72859 | RJ America Inc (Wkrs) | Brooklyn, NY | 11/16/09 | 11/15/09
72860 | Metavation LLC (Union) | Traverse City, MI | 11/16/09 | 11/16/09
72861 | Stanley Furniture Company, Inc.—Stanleytown, VA (Comp) | Stanleytown, VA | 11/17/09 | 11/16/09
72862 | SKF Aeroengine (Wkrs) | Falconer, NY | 11/17/09 | 11/06/09
72863 | Baker Furniture (Wkrs) | Connelly Springs, NC | 11/17/09 | 11/16/09
72864 | Cummins Business Services (Comp) | Nashville, TN | 11/17/09 | 11/16/09
72865 | Valenite, LLC (Wkrs) | Madison Heights, MI | 11/17/09 | 11/16/09
72866 | Nova Controls, Inc. (Wkrs) | Watsonville, CA | 11/17/09 | 11/12/09
72867 | Hewlett-Packard, Vancouver Site IT (Wkrs) | Vancouver, WA | 11/17/09 | 11/08/09
72868 | Empire Die Casting Company, Inc. (Wkrs) | Macedonia, OH | 11/17/09 | 11/16/09
72869 | Dell, Inc. (Wkrs) | Oklahoma City, OK | 11/17/09 | 11/11/09
72870 | Boise Cascade, LLC (Union) | Oakdale, LA | 11/17/09 | 11/16/09
72871 | Orleans Furniture, Inc. (Comp) | Columbia, MS | 11/17/09 | 11/10/09
72872 | Moog, Inc. (State) | Everett, WA | 11/17/09 | 11/16/09
72873 | RBS Citizens, N.A. (Comp) | Providence, RI | 11/17/09 | 11/16/09
72874 | Cooper Tools—Lexington Operation (Comp) | Lexington, SC | 11/18/09 | 11/16/09
72875 | Cooper Tools—Apex Operation (Comp) | Apex, NC | 11/18/09 | 11/16/09
72876 | EDS, an HP Company (Wkrs) | Flint, MI | 11/18/09 | 11/12/09
72877 | Avaya Incorporated (Comp) | Basking Ridge, NJ | 11/18/09 | 11/12/09
72878 | The Premcor Refining Group Inc., A Valero Company (USW) | Delaware City, DE | 11/18/09 | 11/01/09
72879 | Universal Warranty Corporation (Wkrs) | Omaha, NE | 11/18/09 | 11/11/09
72880 | Intermet—Archer Creek (Comp) | Linchburg, VA | 11/18/09 | 11/04/09
72881 | Smart Paper (Union) | Hamilton, OH | 11/18/09 | 11/17/09
72882 | Aluminum Alloys (Wrks) | Sinking Spring, PA | 11/18/09 | 10/20/09
72883 | General Electric—Grove City (Wkrs) | Grove City, PA | 11/18/09 | 11/12/09
72884 | Warner Music Group (Wkrs) | Burbank, CA | 11/18/09 | 11/16/09
72885 | Logan Industries, Inc. (Comp) | Spokane, WA | 11/18/09 | 11/17/09
72886 | Turner Techtronics, Inc. (State) | Burbank, CA | 11/18/09 | 11/17/09
72887 | Hospira (Comp) | Lake Forest, IL | 11/18/09 | 11/16/09
72888 | Tektronix, Inc. (Comp) | Beaverton, OR | 11/19/09 | 11/17/09
72889 | Nortel (Wkrs) | Richardson, TX | 11/19/09 | 11/11/09
72890 | Nortel Networks, LTE Packet Core (Wkrs) | Richardson, TX | 11/19/09 | 11/18/09
72891 | Pulva Corporation (Wkrs) | Saxonburg, PA | 11/19/09 | 09/28/09
72892 | Bostik Inc. (Comp) | Marshall, MI | 11/19/09 | 11/18/09
72893 | Goetz Custom Technologies (Comp) | Bristol, RI | 11/19/09 | 10/23/09
72894 | U.S. Axle, Inc. (Comp) | Pottstown, PA | 11/19/09 | 11/12/09
72895 | Clark Construction (Comp) | El Dorado, TX | 11/19/09 | 11/17/09
72896 | Staffmark (Wkrs) | Buena Park, CA | 11/19/09 | 11/18/09
72897 | MedQuist (Wkrs) | Norcross, GA | 11/19/09 | 11/18/09
72898 | Modine Manufacturing Company (Comp) | Harrodsburg, KY | 11/19/09 | 11/18/09
72899 | Weatherford (Wkrs) | Midland, TX | 11/19/09 | 11/16/09
72900 | CEVA Freight, LLC (Wkrs) | Winston-Salem, NC | 11/19/09 | 11/18/09
72901 | Sequel Software, Inc. (Comp) | Durango, CO | 11/19/09 | 11/12/09
72902 | Haerter Stamping, LLC (Comp) | Kentwood, MI | 11/19/09 | 11/18/09
72903 | Ford Motor Company, Wahtoo Hills Stamping (Union) | Walton Hills, OH | 11/20/09 | 11/19/09
72904 | Honeywell-Hobbs (2 Locations) (Union) | Spring Valley, IL | 11/20/09 | 11/13/09
72905 | Precision Mold & Engineering, Inc. (Comp) | Warren, MI | 11/20/09 | 11/19/09
72906 | Sonetics Corporation (Comp) | Tigard, OR | 11/20/09 | 11/12/09
72907 | Gallery Leather Company, Inc. (Union) | Trenton, ME | 11/20/09 | 11/11/09
72908 | Embarq (Wkrs) | New Bern, NC | 11/20/09 | 11/17/09
72909 | The Glass Baron, Inc. (Comp) | Virginia Beach, VA | 11/20/09 | 11/19/09
72910 | Carl Zeiss IMT Corporation (Wkrs) | Maple Grove, MN | 11/20/09 | 11/18/09
72911 | Sandvik Hard Materials (State) | West Branch, MI | 11/20/09 | 10/26/09
72912 | Rexam Closure (Wkrs) | Hamlet, NC | 11/20/09 | 11/10/09
72913 | Mcnulty Hicken Smith (MHSI) (State) | Rochester Hills, MI | 11/20/09 | 10/26/09
72914 | Cummins Filtration (State) | Cookeville, TN | 11/20/09 | 11/16/09
72915 | Lariat Services (Wkrs) | Midland, TX | 11/20/09 | 11/18/09
72916 | Dowell Schlumberger (Wkrs) | Sonora, TX | 11/20/09 | 11/19/09

[FR Doc. E9-30245 Filed 12-18-09; 8:45 am]

BILLING CODE 4510-FN-P